DEPARTMENT OF TRANSPORTATION

Federal Aviation Administration

14 CFR Part 39

[Docket No. FAA-2013-0742; Directorate Identifier 2013-CE-012-AD]

RIN 2120-AA64

Airworthiness Directives; Piper Aircraft, Inc.

AGENCY: Federal Aviation Administration (FAA), DOT.

ACTION: Notice of proposed rulemaking (NPRM).

SUMMARY: We propose to supersede an existing airworthiness directive (AD) that applies to certain Piper Aircraft, Inc. Models PA-28-140, PA-28-150, PA-28-160, PA-28-180, PA-28R-180, and PA-28R-200 airplanes. AD 71-21-08, Amendment 39-1312 (36 FR 19572, October 8, 1971) currently requires replacement of the fuel selector valve cover. Since we issued AD 71-21-08, it has been found that a similar fuel selector valve issue exists in additional serial numbered airplanes not identified in the existing AD. This proposed AD would add additional airplanes to the AD's applicability section and changes the compliance time of the required actions. We are proposing this AD to correct the unsafe condition on these products.

DATES: We must receive comments on this proposed AD by October 4, 2013.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: Deliver to Mail address above between 9 a.m. and 5 p.m., Monday through Friday, except Federal holidays.

For service information identified in this AD, contact Piper Aircraft, Inc., 2926 Piper Drive, Vero Beach, Florida 32960; telephone: (772) 567-4361; fax: (772) 978-6573; email: customer.service@piper.com; Internet: www.piper.com/home/pages/Publications.cfm. You may review copies of the referenced service information at the FAA, Small Airplane Directorate, 901 Locust, Kansas City, Missouri 64106. For information on the availability of this material at the FAA, call (816) 329-4148.

Examining the AD Docket

You may examine the AD docket on the Internet at http://www.regulations.gov; or in person at the Docket Management Facility between 9 a.m. and 5 p.m., Monday through Friday, except Federal holidays. The AD docket contains this proposed AD, the regulatory evaluation, any comments received, and other information. The street address for the Docket Office (phone: 800-647-5527) is in the ADDRESSES section. Comments will be available in the AD docket shortly after receipt.

FOR FURTHER INFORMATION CONTACT: Gary Wechsler, Aerospace Engineer, Atlanta Aircraft Certification Office, FAA, 1701 Columbia Avenue, College Park, Georgia 30337; telephone: (404) 474-5575; fax: (404) 474-5606; email: gary.wechsler@faa.gov.

SUPPLEMENTARY INFORMATION:

Comments Invited

We invite you to send any written relevant data, views, or arguments about this proposed AD. Send your comments to an address listed under the ADDRESSES section. Include “Docket No. FAA-2013-0742; Directorate Identifier 2013-CE-012-AD” at the beginning of your comments. We specifically invite comments on the overall regulatory, economic, environmental, and energy aspects of this proposed AD. We will consider all comments received by the closing date and may amend this proposed AD because of those comments.

We will post all comments we receive, without change, to http://www.regulations.gov, including any personal information you provide. We will also post a report summarizing each substantive verbal contact we receive about this proposed AD.

Discussion

On September 29, 1971, we issued AD 71-21-08, Amendment 39-1312 (36 FR 19572, October 8, 1971), for certain Piper Aircraft, Inc. Models PA-28-140, PA-28-180, PA-28R-180, and PA-28R-200 airplanes. That AD requires a replacement of the fuel selector valve cover to prevent possible binding of the fuel selector handle.

Actions Since Existing AD Was Issued

Since we issued AD 71-21-08, Amendment 39-1312 (36 FR 19572, October 8, 1971), a safety event in 2011 caused the loss of a Model PA-28-180C airplane and the serious injury to one occupant. A subsequent FAA investigation revealed eight additional PA-28 series events dating from 1999 to the present were the result of a similar fuel selector valve assembly issue. Additionally, the FAA was unable to determine and locate records of notification when Piper Service Letter (SL) 590, dated May 25, 1972, and Piper Service Bulletin (SB) 840, dated June 19, 1986, were released indicating a similar fuel selector valve issue existed in additional serial numbered airplanes not identified in AD 71-21-08.

Although reliable FAA records do not exist for events prior to 1995, it is likely that the AD and Piper service information referenced above was released due to the frequency of similar events occurring during the periods in which the documents were released. Piper has indicated the majority of the airplanes added to the applicability of this NPRM have likely already complied with the proposed action.

Relevant Service Information

The 2011 safety event prompted us to review the Piper Aircraft, Inc. service information history, specifically Piper Mandatory Service Bulletin No. 840, dated June 19, 1986. The service information describes applicability and where to find procedures for replacement of the fuel selector valve cover.

FAA's Determination

We are proposing this AD because we evaluated all the relevant information and determined the unsafe condition described previously is likely to exist or develop in other products of the same type design.

Proposed AD Requirements

This proposed AD would retain all actions from AD 71-21-08, Amendment 39-1312 (36 FR 19572, October 8, 1971), add additional airplanes to the applicability, and change the compliance times for the required actions.

Costs of Compliance

We estimate that this proposed AD affects 6,928 airplanes of U.S. registry.

We estimate the following costs to comply with this proposed AD:

Estimated costs
Action | Labor cost | Parts cost | Cost per product | Cost on U.S. operators
Inspect airplane records and fuel selector valve | .5 work-hour × $85 per hour = $42.50 | Not applicable | $42.50 | $294,440.
Install Piper Kit part number 760-545V and one (1) each Air Vent Flange Kit part number 65735-219 | 1.5 work-hours × $85 per hour = $127.50 | $519 | $646.50 | 523 airplanes × $646.50 = $338,119.50.
Install Piper Kit part number 760-546V | 1.5 work-hours × $85 per hour = $127.50 | $513 | $640.50 | 6,405 airplanes × $640.50 = $4,102,402.50.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 71-21-08, Amendment 39-1312 (36 FR 19572, October 8, 1971), and adding the following new AD:

Piper Aircraft, Inc.: Docket No. FAA-2013-0742; Directorate Identifier 2013-AD-012-AD.

(a) Comments Due Date

The FAA must receive comments on this AD action by October 4, 2013.

(b) Affected ADs

This AD supersedes AD 71-21-08, Amendment 39-1312 (36 FR 19572, October 8, 1971).

(c) Applicability

This AD applies to the following Piper Aircraft, Inc. airplanes, certificated in any category, as identified in table 1, paragraph (c), of this AD:

Table 1 to Paragraph (c) of This AD—Applicability
Model | Serial Nos.
PA-28-140 | 28-20000 through 28-26946, and 28-7125001 through 28-7125666.
PA-28-150/160/180 | 28-01 through 28-5859, and 28-7105001 through 28-7105259.
PA-28R-180 | 28R-30000 through 28R-31270, and 28R-7130001 through 28R-7130038.
PA-28R-200 | 28R-35001 through 28R-35820, and 28R-7135001 through 28R-7135254.

(d) Subject

Joint Aircraft System Component (JASC)/Air Transport Association (ATA) of America Code, 2823; Fuel Selector/Shut-Off Valve.

(e) Unsafe Condition

This AD was prompted by a safety event in 2011 that resulted in serious injury and substantial airplane damage and was caused by an in-flight engine stoppage due to binding of the fuel selector handle, thus the need to add additional airplanes to the applicability of AD 71-21-08, Amendment 39-1312 (36 FR 19572, October 8, 1971). We are issuing this AD to detect and correct defective fuel valve covers, which could result in fuel selector handle binding leading to fuel flow interruption resulting in engine stoppage.

(f) Compliance

Unless already done, within the next 100 hours time-in-service (TIS) after the effective date of this AD or within the next 12 months after the effective date of this AD, whichever occurs first, do the following actions as applicable in paragraphs (g) through (h) of this AD, including all subparagraphs.

(g) Inspection

Inspect to verify if the appropriate kit, Piper part number (P/N) 760-545V or P/N 760-546V, has been installed on the applicable airplanes, using one of two methods defined in paragraphs (g)(1), (g)(2), or (g)(3) of this AD:

(1) Review the prior logbook entries of the airplanes identified in table 2 to paragraph (g) of this AD for documentation of Piper Mandatory Service Bulletin (MSB) 840, dated June 19, 1986, or Piper Service Letter (SL) 588, dated September 3, 1971, compliance; or kit, Piper P/N 760-545V installation.

Table 2 to Paragraph (G) of this Ad—Kit, Piper P/N 760-545V, Applicability
Model | Serial Nos.
PA-28-140 | 28-7125001 through 28-7125666.
PA-28-180 | 28-7105001 through 28-7105259.
PA-28R-180 | 28R-7130001 through 28R-7130038.
PA-28R-200 | 28R-7135001 through 28R-7135254.

(2) Review the prior logbook entries of the airplanes identified in table 3 to paragraph (g) of this AD for documentation of Piper Mandatory Service Bulletin (MSB) 840, dated June 19, 1986, or Piper Service Letter (SL) 588, dated September 3, 1971 compliance; or kit, Piper P/N 760-546V installation.

Table 3 to Paragraph (G) of this Ad—Kit, Piper P/N 760-546V, Applicability
Model | Serial Nos.
PA-28-140 | 28-20000 through 28-26946.
PA-28-150/160/180 | 28-01 through 28-5859.
PA-28R-180 | 28R-30000 through 28R-31270.
PA-28R-200 | 28R-35001 through 28R-35820.

(3) Visually examine the fuel selector cover installed on the applicable airplanes referenced in table 1 to paragraph (c) of this AD. Airplanes that have installed the kit,

Piper P/N 760-545V or 760-546V, will have a fuel selector cover with a silver-gray, spring loaded, metal stop located at the 5 o'clock position, approximately 1.75 inches from the center of the fuel selector cover.

(h) Replacement

If after doing the inspections required in paragraph (g)(1), (g)(2), and (g)(3) of this AD you do not find fuel selector valve kit, Piper P/N 760-545V or P/N 760-546V, installed on the airplane, replace the fuel selector valve as specified in paragraphs (h)(1) and (h)(2) of this AD:

(1) For Model PA-28-140 airplanes, serial numbers (S/Ns) 28-7125001 through 28-7125666; Model PA-28-180 airplanes, S/Ns 28-7105001 through 28-7105259; Model PA-28R-180 airplanes, S/Ns 28R-7130001 through 28R-7130038; and Model PA-28R-200 airplanes, S/Ns 28R-7135001 through 28R-7135254: Replace with Fuel Selector Valve Cover Replacement Kit, Piper P/N 760-545V; and Air Vent Flange Kit, Piper P/N 65735-219. Do the replacement following the instructions referenced in Piper MSB No. 840, dated June 19, 1986.

(2) For Model PA-28-140 airplanes, S/Ns 28-20000 through 28-26946; Model PA-28-150/160/180 airplanes, S/Ns 28-01 through 28-5859; Model PA-28R-180 airplanes, S/Ns 28R-30000 through 28R-31270; and Model PA-28R-200 airplanes, S/Ns 28R-35001 through 28R-35820: Replace with Fuel Selector Valve Cover Replacement Kit, Piper P/N 760-546V. Do the replacement following the instructions referenced in Piper MSB No. 840, dated June 19, 1986.

(i) Alternative Methods of Compliance (AMOCs)

(1) The Manager, Atlanta Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in the Related Information section of this AD.

(2) Before using any approved AMOC, notify your appropriate principal inspector, or lacking a principal inspector, the manager of the local flight standards district office/certificate holding district office.

(j) Related Information

(1) For more information about this AD, contact Gary Wechsler, Aerospace Engineer, Atlanta Aircraft Certification Office, FAA, 1701 Columbia Avenue, College Park, Georgia 30337; telephone: (404) 474-5575; fax: (404) 474-5606; email: gary.wechsler@faa.gov.

(2) For service information identified in this AD, contact Piper Aircraft, Inc., 2926 Piper Drive, Vero Beach, Florida 32960; telephone: (772) 567-4361; fax: (772) 978-6573; email: customer.service@piper.com; Internet: www.piper.com/home/pages/Publications.cfm. You may view this service information at FAA, Small Airplane Directorate, 901 Locust, Kansas City, Missouri 64106. For information on the availability of this material at the FAA, call (816) 329-4148.

Issued in Kansas City, Missouri, on August 14, 2013.
John Colomy,
Acting Manager, Small Airplane Directorate, Aircraft Certification Service.

[FR Doc. 2013-20328 Filed 8-19-13; 8:45 am]

BILLING CODE 4910-13-P